DEPARTMENT OF TRANSPORTATION

Federal Aviation Administration

14 CFR Part 71

[Docket No. FAA-2019-0679; Airspace Docket No. 18-ANM-18]

RIN 2120-AA66

Proposed Amendment of Class E Airspace; Walla Walla, WA

AGENCY: Federal Aviation Administration (FAA), DOT.

ACTION: Notice of proposed rulemaking (NPRM).

SUMMARY: This action proposes to amend Class E4 surface area and Class E5 airspace extending upward from 700 feet above the surface of the earth at Walla Walla Regional Airport, Walla Walla, WA. This action proposes to remove a large area of Class E5 airspace extending upward from 700 feet above the surface to the east of the airport. The action also proposes to amend the Class E5 airspace extending upward from 700 feet above the surface to the northeast and southwest of the airport. Further, this action also proposes administrative corrections to the airport's legal description. This action would ensure the safety and management of IFR operations at the airport.

DATES: Comments must be received on or before November 25, 2019.

ADDRESSES: Send comments on this proposal to the U.S. Department of Transportation, Docket Operations, 1200 New Jersey Avenue SE, West Building Ground Floor, Room W12-140, Washington, DC 20590; telephone: 1-800-647-5527, or (202) 366-9826. You must identify

FAA Docket No. FAA-2019-0679; Airspace Docket No. 18-ANM-18, at the beginning of your comments. You may also submit comments through the internet at http://www.regulations.gov.

FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend the Class E airspace at Walla Walla Regional Airport, Walla Walla, Washington to support instrument flight rules (IFR) operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2019-0679; Airspace Docket No. 18-ANM-18”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) Part 71 by amending Class E4 airspace at Walla Walla Regional Airport extending upward from the surface within 2.4 miles each side of the 036° bearing extending from the 4.3-mile radius to 11.6 miles northeast of the Walla Walla Regional Airport. The action also proposes to remove Class E4 airspace to the southwest of the airport as it is not needed to contain aircraft on any procedure currently published for the airport. This airspace is designed to contain IFR aircraft descending below 1,000 feet above the surface of the earth.

This action also proposes to amend Class E5 airspace extending upward from 700 feet above the surface of the earth. The action will remove a large portion of the Class E5 airspace east of the airport and resize the airspace to the northeast and southwest of the airport as follows, within 4 miles each side of the 216° bearing extending from the 4.3-mile radius to 12.5 miles southwest of the airport, and within 4 miles east and 8 miles west of the 037° bearing extending from 6 miles to 22.2 miles northeast of the Walla Walla Regional Airport. This airspace is designed to contain IFR aircraft descending below 1,500 feet above the surface of the earth.

Lastly, this action proposes administrative updates to the Class D and Class E2 legal descriptions to replace “Airport/Facilities Directory” with “Chart Supplement” and update the airport's geographic coordinates to match the FAA's aeronautical database.

Class D, E2, E4, and E5 airspace descriptions are published in paragraphs 5000, 6002, 6004 and 6005, respectively, of FAA Order 7400.11D dated August 8, 2019, and effective September 15, 2019, which is incorporated by reference in 14 CFR 71.1. The Class D and Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6004 Class E Airspace Areas Designated as an Extension to a Class D or Class E Surface Area

* * * * *

ANM WA E4 Walla Walla, WA

Walla Walla Regional Airport, WA

(Lat. 46°05′33″ N, long. 118°17′03″ W)

That airspace extending upward from the surface within 2.4 miles each side of the 036° bearing extending from the 4.3-mile radius to 11.6 miles northeast of the Walla Walla Regional Airport.

Paragraph 6005 Class E Airspace Areas Extending Upward From 700 Feet or More Above the Surface of the Earth

* * * * *

ANM WA E5 Walla Walla, WA

Walla Walla Regional Airport, WA

(Lat. 46°05′33″ N, long. 118°17′03″ W)

That airspace extending upward from 700 feet above the surface within 4 miles each side of the 216° bearing extending from the 4.3-mile radius to 12.5 miles southwest of the airport, and within 4 miles east and 8 miles west of the 037° bearing extending from 6 miles to 22.2 miles northeast of the Walla Walla Regional Airport.

Issued in Seattle, Washington, on October 3, 2019.
Byron Chew,
Group Manager, Operations Support Group, Western Service Center.

[FR Doc. 2019-22109 Filed 10-9-19; 8:45 am]

BILLING CODE 4910-13-P